DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Florida:
Brevard, (FEMA Docket No.: B-2130). | City of Cocoa, (20-04-1578P). | The Honorable Mike Blake, Mayor, City of Cocoa, 65 Stone Street, Cocoa, FL 32922. | City Hall, 65 Stone Street, Cocoa, FL 32922. | Jul. 13, 2021 | 120020
Collier, (FEMA Docket No.: B-2133). | Unincorporated areas of Collier County, (21-04-0329P). | The Honorable Penny Taylor, Chair, Collier County Board of Commissioners, 3299 Tamiami Trail East, Suite 303, Naples, FL 34112. | Collier County Growth Management Department, 2800 North Horseshoe Drive, Naples, FL 34104. | Jul. 23, 2021 | 120067
Lake, (FEMA Docket No.: B-2125). | City of Leesburg, (21-04-0344P). | The Honorable John Christian, Mayor, City of Leesburg, 501 West Meadow Street, Leesburg, FL 34748. | City Hall, 501 West Meadow Street, Leesburg, FL 34748. | Jul. 13, 2021 | 120136
Lake, (FEMA Docket No.: B-2125). | Unincorporated areas of Lake County, (21-04-0344P). | Ms. Jo Anne Drury, Interim Lake County Manager, P.O. Box 7800, Tavares, FL 32778. | Lake County Administration Building, 315 West Main Street, Tavares, FL 32778. | Jul. 13, 2021 | 120421
Monroe, (FEMA Docket No.: B-2130). | Unincorporated areas of Monroe County, (21-04-0382P). | The Honorable Michelle Coldiron, Mayor, Monroe County Board of Commissioners, 25 Ships Way, Big Pine Key, FL 33042. | Monroe County Building Department, 2798 Overseas Highway, Suite 300, Marathon, FL 33050. | Jul. 26, 2021 | 125129
Monroe, (FEMA Docket No.: B-2133). | Unincorporated areas of Monroe County, (21-04-1092P). | The Honorable Michelle Coldiron, Mayor, Monroe County Board of Commissioners, 25 Ships Way, Big Pine Key, FL 33042. | Monroe County Building Department, 2798 Overseas Highway, Suite 300, Marathon, FL 33050. | Jul. 19, 2021 | 125129
Monroe, (FEMA Docket No.: B-2130). | Unincorporated areas of Monroe County, (21-04-1224P). | The Honorable Michelle Coldiron, Mayor, Monroe County Board of Commissioners, 25 Ships Way, Big Pine Key, FL 33042. | Monroe County Building Department, 2798 Overseas Highway, Suite 300, Marathon, FL 33050. | Jul. 26, 2021 | 125129
Palm Beach, (FEMA Docket No.: B-2130). | Town of Hypoluxo, (20-04-4389P). | The Honorable Michael C. Brown, Mayor, Town of Hypoluxo, 7580 South Federal Highway, Hypoluxo, FL 33462. | Town Hall, 7580 South Federal Highway, Hypoluxo, FL 33462. | Jul. 20, 2021 | 120207
Georgia: Columbia, (FEMA Docket No.: B-2130). | Unincorporated areas of Columbia County, (20-04-4680P). | The Honorable Douglas R. Duncan, Jr., Chairman, Columbia County Board of Commissioners, 630 Ronald Reagan Drive, Building B, Evans, GA 30809. | Columbia County Engineering Services Division, Stormwater Compliance Department, 630 Ronald Reagan Drive, Building A, Evans, GA 30809. | Jul. 22, 2021 | 130059
Louisiana: Ouachita, (FEMA Docket No.: B-2130). | Unincorporated areas of Ouachita Parish, (20-06-2168P). | The Honorable Shane Smiley, President, Ouachita Parish Police Jury, 301 South Grand Street, Suite 201, Monroe, LA 71201. | Ouachita Parish Floodplain Manager's Office, 1650 DeSiard Street, Suite 202, Monroe, LA 71201. | Jul. 23, 2021 | 220135
Massachusetts: Plymouth, (FEMA Docket No.: B-2125). | Town of Marion, (21-01-0018P). | The Honorable Randy L. Parker, Chairman, Town of Marion Board of Selectmen, 2 Spring Street, Marion, MA 02738. | Building Department, 2 Spring Street, Marion, MA 02738. | Jul. 16, 2021 | 255213
New Mexico:
Taos, (FEMA Docket No.: B-2125). | Town of Taos, (21-06-0091P). | The Honorable Daniel R. Barrone, Mayor, Town of Taos, 400 Camino De La Placita, Taos, NM 87571. | Town Hall, 400 Camino De La Placita, Taos, NM 87571. | Jul. 23, 2021 | 350080
Taos, (FEMA Docket No.: B-2125). | Unincorporated areas of Taos County, (20-06-2296P). | Mr. Brent Jaramillo, Taos County Manager, 105 Albright Street, Suite G, Taos, NM 87571. | Taos County Planning Department, 105 Albright Street, Suite G, Taos, NM 87571. | Jul. 16, 2021 | 350078
Taos, (FEMA Docket No.: B-2125). | Unincorporated areas of Taos County, (21-06-0091P). | Mr. Brent Jaramillo, Taos County Manager, 105 Albright Street, Suite G, Taos, NM 87571. | Taos County Planning Department, 105 Albright Street, Suite G, Taos, NM 87571. | Jul. 23, 2021 | 350078
Oklahoma: Tulsa, (FEMA Docket No.: B-2130). | City of Owasso, (20-06-3124P). | Mr. Warren Lehr, City of Owasso Manager, 200 South Main Street, Owasso, OK 74055. | Public Works Department, 301 West 2nd Avenue, Owasso, OK 74055. | Jul. 22, 2021 | 400210
Pennsylvania: Columbia, (FEMA Docket No.: B-2125). | Town of Bloomsburg, (20-03-1776P). | The Honorable William Kreisher, Mayor, Town of Bloomsburg, 301 East 2nd Street, Bloomsburg, PA 17815. | Town Hall, 301 East 2nd Street, Bloomsburg, PA 17815. | Jul. 19, 2021 | 420339
South Carolina: Horry, (FEMA Docket No.: B-2130). | City of North Myrtle Beach, (21-04-0131P). | Mr. Michael Mahaney, City of North Myrtle Beach Manager, 1018 2nd Avenue South, North Myrtle Beach, SC 29582. | Planning and Development Department, 1018 2nd Avenue South, North Myrtle Beach, SC 29582. | Jul. 26, 2021 | 450110
Texas:
Harris, (FEMA Docket No.: B-2130). | Unincorporated areas of Harris County, (19-06-3656P). | The Honorable Lina Hidalgo, Harris County Judge, 1001 Preston Street, Suite 911, Houston, TX 77002. | Harris County Permit Office, 10555 Northwest Freeway, Suite 120, Houston, TX 77092. | Jul. 26, 2021 | 480287
Kaufman, (FEMA Docket No.: B-2130). | City of Terrell, (20-06-3456P). | The Honorable Rick Carmona, Mayor, City of Terrell, P.O. Box 310, Terrell, TX 75160. | Engineering Department, 201 East Nash Street, Terrell, TX 75160. | Jul. 19, 2021 | 480416
Rockwall, (FEMA Docket No.: B-2130). | City of Fate, (20-06-3482P). | The Honorable David Billings, Mayor, City of Fate, P.O. Box 159, Fate, TX 75132. | Department of Planning and Development, 1900 CD Boren Parkway, Fate, TX 75087. | Jul. 19, 2021 | 480544
Rockwall, (FEMA Docket No.: B-2130). | City of Rockwall, (20-06-3482P). | Ms. Mary Smith, Interim Manager, City of Rockwall, 385 South Goliad Street, Rockwall, TX 75087. | Department of Public Works, Engineering Division, 385 South Goliad Street, Rockwall, TX 75087. | Jul. 19, 2021 | 480547
Smith, (FEMA Docket No.: B-2130). | Unincorporated areas of Smith County, (20-06-3422P). | The Honorable Nathaniel Moran, Smith County Judge, 200 East Ferguson Street, Suite 100, Tyler, TX 75702. | Smith County Bridge Department, 1700 West Claude Street, Tyler, TX 75702. | Jul. 14, 2021 | 481185
Virginia:
Albemarle, (FEMA Docket No.: B-2125). | Unincorporated areas of Albemarle County, (20-03-1246P). | Mr. Jeffrey B. Richardson, Albemarle County Executive, 401 McIntire Road, Charlottesville, VA 22902. | Albemarle County Department of Community Development, 401 McIntire Road, Charlottesville, VA 22902. | Jul. 13, 2021 | 510006
Loudoun, (FEMA Docket No.: B-2130). | Town of Leesburg, (21-03-0539P). | The Honorable Kelly Burk, Mayor, Town of Leesburg, 25 West Market Street, Leesburg, VA 20176. | Department of Plan Review, 25 West Market Street, Leesburg, VA 20176. | Jul. 19, 2021 | 510091
Loudoun, (FEMA Docket No.: B-2130). | Unincorporated areas of Loudoun County, (21-03-0539P). | Mr. Tim Hemstreet, Loudoun County Administrator, P.O. Box 7000, Leesburg, VA 20177. | Loudoun County Planning and Zoning Department, 1 Harrison Street Southeast, Leesburg, VA 20175. | Jul. 19, 2021 | 510090
Stafford, (FEMA Docket No.: B-2130). | Unincorporated areas of Stafford County, (21-03-0356P). | Mr. Fred Presley, Stafford County Administrator, 1300 Courthouse Road, Stafford, VA 22554. | Stafford County Department of Public Works, Environmental Division, 2126 Jefferson Highway, Suite 203, Stafford, VA 22554. | Jul. 19, 2021 | 510154

[FR Doc. 2021-17205 Filed 8-11-21; 8:45 am]

BILLING CODE 9110-12-P